FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 019915NF.

Name: Advanced Logistics Group Inc.

Address: 3780 Kilroy Airport Way, Ste. 820, Long Beach, CA 90806.

Date Revoked: March 20, 2009.

Reason: Failed to maintain valid bonds.

License Number: 020700F.

Name: Allen & Sally Associates, LLC dba USA Customs Brokers & Freight Forwarders.

Address: 7094 Peachtree Industrial Boulevard, Ste. 270-1, Norcross, GA 30071.

Date Revoked: April 22, 2009.

Reason: Failed to maintain a valid bond.

License Number: 019764N.

Name: Altorky Group Inc. dba In & Out Cargo.

Address: 2323 S. Voss, #203-C1, Houston, TX 77057.

Date Revoked: April 21, 2009.

Reason: Surrendered license voluntarily.

License Number: 003983F.

Name: Apollo Stevedoring Company, Inc. dba Jason Shipping Company.

Address: 13251 Eastern Ave., Port Manatee, Palmetto, FL 34221-6608.

Date Revoked: March 25, 2009.

Reason: Failed to maintain a valid bond.

License Number: 021399NF.

Name: AS Logistics, Inc. dba Amstan Logistics.

Address: 101 Knightsbridge Dr., Hamilton, OH 45011.

Date Revoked: March 15, 2009.

Reason: Failed to maintain valid bonds.

License Number: 015368N.

Name: Atlas C. Line, Ltd.

Address: 1701 NW. 84th Ave., Ste. 172, Doral, FL 33126-1001.

Date Revoked: March 22, 2009.

Reason: Failed to maintain a valid bond.

License Number: 013552N.

Name: Boston Shipping Enterprise, Inc.

Address: 506 Decatur Street, Brooklyn, NY 11233.

Date Revoked: April 16, 2009.

Reason: Failed to maintain a valid bond.

License Number: 004012F.

Name: Caraval, Inc.

Address: P.O. Box 440643, Miami, FL 33144.

Date Revoked: April 14, 2009.

Reason: Surrendered license voluntarily.

License Number: 014352N.

Name: Cargo Express, Inc.

Address: 545 Orchard Ave., Langhorne, PA 19047.

Date Revoked: April 27, 2009.

Reason: Surrendered license voluntarily.

License Number: 019557NF.

Name: Explam Corporation dba Explam Cargo.

Address: 9396 SW. 164th Ct., Miami, FL 33196.

Date Revoked: March 19, 2009.

Reason: Failed to maintain valid bonds.

License Number: 003722F.

Name: Falcon Transportation & Forwarding Corp.

Address: 500 Bi-County Blvd., Ste. 213N, Farmingdale, NY 11735.

Date Revoked: March 15, 2009.

Reason: Failed to maintain a valid bond.

License Number: 013070N.

Name: Florida Ocean Carrier, Inc.

Address: 7700 NW. 79th Place, Unit D-2, Medley, FL 33166.

Date Revoked: March 28, 2009.

Reason: Failed to maintain a valid bond.

License Number: 020676N.

Name: Global Partner Logistics NY, Inc. dba Worldwide Combined Logistics.

Address: 7 River Street, #91, Little Ferry, NJ 07643.

Date Revoked: April 8, 2009.

Reason: Surrendered license voluntarily.

License Number: 018485N.

Name: Global Ocean Freight, Inc.

Address: 100 NW. 82nd Ave., Ste. 302-303, Plantation, FL 33324.

Date Revoked: April 4, 2009.

Reason: Failed to maintain a valid bond.

License Number: 002396F.

Name: Import Brokers, Inc.

Address: 2801 NW. 74th Ave., Ste. 201, Miami, FL 33122.

Date Revoked: April 10, 2009.

Reason: Failed to maintain a valid bond.

License Number: 000858N.

Name: John A. Steer Co.

Address: 28 South 2nd Street, Philadelphia, PA 19106.

Date Revoked: April 29, 2009.

Reason: Failed to maintain a valid bond.

License Number: 016955NF.

Name: LEEO Shipping, Inc.

Address: 15934 So. Figueroa St., Gardena, CA 90248.

Date Revoked: April 3, 2009.

Reason: Failed to maintain valid bonds.

License Number: 019768NF.

Name: Link Cargo Int'l, LLC.

Address: 6019 Farmwood Way SE., Mableton, GA 30126.

Date Revoked: April 26, 2009.

Reason: Failed to maintain valid bonds.

License Number: 020562N.

Name: Lloyds Global Logistics, Inc. dba Lloydscargo.

Address: 615 N. Nash St., Ste. 303, El Segundo, CA 90245.

Date Revoked: April 11, 2009.

Reason: Failed to maintain a valid bond.

License Number: 021320F.

Name: Milan Freight Express Corp.

Address: 6708 NW. 82nd Ave., Miami, FL 33166.

Date Revoked: April 16, 2009.

Reason: Failed to maintain a valid bond.

License Number: 019278N.

Name: Nelcon Cargo Corp.

Address: 7270 Northwest 35th Terr., Ste. 102, Miami, FL 33122.

Date Revoked: March 29, 2009.

Reason: Failed to maintain a valid bond.

License Number: 006849N.

Name: Ocean-Air International, Inc.

Address: 490 Park Dr., Ste. 103, Weirton, WV 26062-4958.

Date Revoked: March 26, 2009.

Reason: Failed to maintain a valid bond.

License Number: 020012N.

Name: Prime Van Lines, Inc.

Address: 10 Park Ave., East Orange, NJ 07017.

Date Revoked: April 28, 2009.

Reason: Failed to maintain a valid bond.

License Number: 020655F.

Name: Quest Cargo, Inc.

Address: 8412 NW. 70th St., Miami, FL 33166.

Date Revoked: March 30, 2009.

Reason: Surrendered license voluntarily.

License Number: 019919N.

Name: Rathbourne Express, Inc.

Address: 72 East Suffolk Ave., Central Islip, NY 11722.

Date Revoked: April 10, 2009.

Reason: Failed to maintain a valid bond.

License Number: 016514F.

Name: Rosemark International LLC.

Address: 3491 Long Drive, Minden, NV 89432.

Date Revoked: March 7, 2009.

Reason: Failed to maintain a valid bond.

License Number: 001268F.

Name: Schick Moving & Storage Company.

Address: 2721 Michelle Dr., Tustin, CA 92780.

Date Revoked: April 17, 2009.

Reason: Failed to maintain a valid bond.

License Number: 020972F.

Name: Sunship International Acquisitions Incorporated.

Address: 6815 W. 95th St., Ste. 1-NE, Oak Lawn, IL 60453.

Date Revoked: April 1, 2009.

Reason: Failed to maintain a valid bond.

License Number: 020131N.

Name: Total Express, Inc. (U.S.A.).

Address: 2580 S. 156th St., Ste. A104, Seattle, WA 98168.

Date Revoked: April 11, 2009.

Reason: Failed to maintain a valid bond.

License Number: 000022F.

Name: Trans-World Shipping Corp.

Address: 75 Maiden Lane, New York, NY 10038.

Date Revoked: April 8, 2009.

Reason: Failed to maintain a valid bond.

License Number: 020517N.

Name: Trust Moving, Marketing & Logistics, Inc. dba TMM Logistics.

Address: 3533 NW. 58th St., Miami, FL 33142.

Date Revoked: March 25, 2009.

Reason: Surrendered license voluntarily.

License Number: 002962F.

Name: Valencia Shipping Agencies, Inc.

Address: Main Basic Center, 2000 Marginal Kennedy Ave., Ste. 411, San Juan, PR 00920.

Date Revoked: April 12, 2009.

Reason: Failed to maintain a valid bond.

License Number: 016269N.

Name: World Transportation Services, Inc. dba Global Express Line.

Address: 15900 Morales Rd., Houston, TX 77032.

Date Revoked: April 28, 2009.

Reason: Failed to maintain a valid bond.

Sandra L. Kusumoto,
Director, Bureau of Certification and Licensing.

[FR Doc. E9-11179 Filed 5-12-09; 8:45 am]

BILLING CODE 6730-01-P